DEPARTMENT OF AGRICULTURE

Food and Nutrition Service

Agency Information Collection Activities: Proposed Collection; Comment Request—Supplemental Nutrition Assistance Program Forms: Applications, Periodic Reporting and Notices

AGENCY: Food and Nutrition Service, USDA.

ACTION: Notice.

SUMMARY: In accordance with the Paperwork Reduction Act of 1995, this Notice invites the general public and other public agencies to comment on proposed information collections. This collection is an extension, without change, of a currently approved burden for the applications, periodic reporting and notices burden calculations for the Supplemental Nutrition Assistance Program (SNAP).

DATES: Written comments must be submitted on or before March 26, 2013 to be assured consideration.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate, automated, electronic, mechanical, or other technological collection techniques or other forms of information technology.

Comments may be sent to Angela Kline, Chief, Certification Policy Branch, Program Development Division, Food and Nutrition Service, U.S. Department of Agriculture, 3101 Park Center Drive, Room 812, Alexandria, VA 22302. Comments may also be submitted via fax to the attention of Angela Kline at 703-305-2486. Comments will also be accepted through the Federal eRulemaking Portal. Go to http://www.regulations.gov and follow the online instructions for submitting comments electronically.

All comments will be open for public inspection during regular business hours (8:30 a.m. to 5:00 p.m., Monday through Friday) at the office of the Food and Nutrition Service, U.S. Department of Agriculture, 3101 Park Center Drive, Room 800, Alexandria, Virginia 22302.

All comments will be summarized and included in the request for Office of Management and Budget approval of the information collection. All comments will become a matter of public record.

FOR FURTHER INFORMATION CONTACT: Requests for additional information or copies of this information collection should be directed to Angela Kline at 703-305-2495.

SUPPLEMENTARY INFORMATION:

Title: Supplemental Nutrition Assistance Program Forms: Applications, Periodic Reporting and Notices.

OMB Number: 0584-0064.

Form Number: None.

Expiration Date: March 31, 2013.

Type of Request: Extension of a currently approved collection.

Abstract: This notice extends the Applications, Periodic Reporting and Notices burden for the Supplemental Nutrition Assistance Program (SNAP). The Federal procedures for implementing the application and certification procedures in the Act are in Parts 271, 272 and 273 of the Title 7 of the Code of Federal Regulation. Part 271 contains general information and definitions, Part 272 contains requirements for participating State agencies and Part 273 contains procedures for the certification of eligible households.

FNS is currently undertaking an extensive review of the burden associated with the application and certification procedures for SNAP. The Agency anticipates releasing a revised Notice within 2013, to reflect the results of this research. This Notice serves to extend the existing burden estimates.

Reporting Burden

Application To Participate in SNAP

Section 273.2 of the SNAP regulations requires that each applicant household complete and file an application, either in paper or electronic form. The application contains detailed information about each household member and their income, employment, shelter expenses, medical expenses (if applicable) and resources that is necessary to determine if the applicant household is entitled to assistance. The application process also includes verification of certain information provided on the application and an interview where the State agency worker asks a series of questions and clarifies information from the application.

Application for SNAP Recertification

Section 273.10(f) of the regulations requires that all households participating in SNAP be assigned certification periods of a definite length. Under section 273.14, in order to continue participating in SNAP, ongoing households must apply for recertification prior to the end of their current certification periods. The recertification process also includes the verification of information, if it has changed, and an interview.

Periodic Reports

Monthly Reports—Under section 273.21, households subject to monthly reporting are required to submit reports of their circumstances on a monthly basis. The report requests the information necessary to determine eligibility and benefits of affected households. Households subject to monthly reporting are assigned certification periods of 12 months and submit 11 monthly reports a year plus the application for recertification.

Quarterly Reports—Per section 273.12 (a)(4), State agencies may require households to report changes on a quarterly basis. Since households are not required to submit a separate quarterly report when they submit an application for recertification, the quarterly report is submitted 3 times a year.

Simplified or Periodic Reports—Section 273.12(a)(5), allows State agencies to establish a simplified reporting (SR) system, under which most households are only required to report when the household's gross monthly income exceeds 130 percent of the Federal poverty level or when an able-bodied adult without dependents (ABAWD) does not meet the minimum weekly work hour requirement. State agencies have the option of including most households assigned a certification period of at least 4 months in their SR systems; households assigned certification periods greater than 6 months must submit a periodic report by the sixth month. State agencies may opt to require households to submit periodic reports at intervals from every 4 months to every 6 months. SR households that are certified for longer than 6 months must submit a periodic report.

Change Reports—Under section 273.12(a), households not subject to one of the periodic reporting systems (monthly, quarterly reporting or simplified reporting) are assigned to a reporting system commonly referred to as change or incident reporting. Households assigned to change reporting must report most changes in household circumstances within 10 days from the date that the change becomes known to the household.

Notices

Notice of Eligibility or Denial—This notice is used by State agencies to advise households of the disposition of their application for initial certification or recertification. If the household is denied, the notice contains the reason(s) for the denial and advises the household of its right to appeal.

Notice of Late/Incomplete Report—This notice is used by State agencies to advise ongoing households when they have failed to submit the required monthly, quarterly or semiannual report altogether or, if the household submitted an incomplete report.

Notice of Missed Interviews (NOMI)—As the name implies, the NOMI is issued by State agencies to households that fail to appear for their scheduled initial or recertification interview, or in the case of households subject to telephone interviews, fail to contact the State agency or receive telephone calls initiated by the local office. The household may respond to the notice by requesting that the interview be rescheduled.

Notice of Expiration (NOE)—State agencies are required to mail a NOE to currently participating households at least 30 days prior to the expiration of their current certification period. The NOE is usually accompanied by the Application for Recertification. The NOE advises the household that its certification period is expiring and that to continue receiving assistance; the household must file its application for recertification in a timely manner.

Notice of Adverse Action (NOAA)—The NOAA is issued by State agencies to participating households whose benefits will be reduced or terminated as the result of a change in household circumstances.

Adequate Notice—An adequate notice is sent to households by the State agency when the household's benefits are reduced or terminated based on information reported by the household itself. Adequate notices can also be used when mass changes occur. Mass changes are certain changes initiated by the State or Federal government that may affect the entire caseload or significant portions of the caseload.

Request for Contact (RFC)—The RFC notice is used to contact the household when the State agency receives information regarding a potential change in a household's eligibility or benefits and such information is not sufficient for the State agency to determine exactly how the household's status would be affected.

Transitional Benefits Notice (TN)—State agencies that opt to provide transitional benefits must provide eligible families a TN that includes detailed and specific information about the household's transitional benefits and rights. Because the TN and the NOE are very similar, the reporting burden associated with the TN is included in the reporting burden for the NOE.

Recordkeeping

Case Records—State agencies must keep records as may be necessary to ascertain whether the program is being conducted in compliance with the Act and the regulations. The Act and Section 272.1(f) of the regulations require States to maintain such records for a period of 3 years from date of origin. States are allowed to store records using automated retrieval systems and other features that do not rely exclusively on the collection and retention of paper records.

Duplicate Participation System—Section 272.4(e) of the regulations require State agencies to search their files for duplicates in order to prevent individuals from receiving benefits in more than one household and to prevent households from receiving benefits in more than one jurisdiction within the State. The Act further requires State agencies to establish a system that will prevent an individual from receiving both food coupons and cash benefits in lieu of coupons in an SSI cash-out State or under a cash-out demonstration project.

BILLING CODE 3410-30-P

Summary of Estimated Burden

Affected Public: State and local government agencies administering SNAP and Individuals/Households.

Estimated Number of Respondents: 14,910,993.

Estimated Number of Responses per Respondent: 19.820.

Estimated Total Number of Annual Responses: 295,530,563.

Estimated Hours per Response: .0842.

Estimated Total Annual Burden: 24,898,223.

Dated: January 18, 2013.
Audrey Rowe,
Administrator, Food and Nutrition Service.

[FR Doc. 2013-01550 Filed 1-24-13; 8:45 am]

BILLING CODE 3410-30-C